DEPARTMENT OF HEALTH AND HUMAN SERVICES

Centers for Disease Control and Prevention

[Program Announcement 04075]

National Trauma Information and Exchange Program; Notice of Availability of Funds-Amendment

A notice announcing the availability of fiscal year (FY) 2004 funds for cooperative agreements for a National Trauma Information and Exchange Program was published in the Federal Register, Tuesday, April 13, 2004, Volume 69, Number 71, pages 19425-19428. The notice is amended as follows: This program has been cancelled. It will be republished with revisions at a later date.

Dated: April 28, 2004.
William P. Nichols,
Acting Director, Procurement and Grants Office, Centers for Disease Control And Prevention.

[FR Doc. 04-10172 Filed 5-4-04; 8:45 am]

BILLING CODE 4163-70-P